DEPARTMENT OF ENERGY

Federal Energy Regulatory Commission

[Project No. 13059-000]

Pacific Gas and Electric Company; Notice of Application Accepted for Filing and Soliciting Comments, Protests, and Motions To Intervene

December 12, 2007.

Take notice that the following hydroelectric application has been filed with the Commission and is available for public inspection:

a. Type of Application: Preliminary Permit.

b. Project No.: 13059-000.

c. Date filed: November 2, 2007.

d. Applicant: Pacific Gas and Electric Company.

e. Name and Location of Project: The proposed Pit 4 Dam Streamflow Incremental Generation Project would be located downstream of the right abutment of the existing Pit 4 Dam, which is a project work under the license for the Pit 3,4,5 Hydroelectric Project No. 233, on the Pit River in Shasta County, California. The project occupies a total of approximately 750 acres of federal lands administered by the U.S. Forest Service (USFS). The Pit 3,4,5 Hydroelectric Project No. 233 is licensed to Pacific Gas and Electric Company (PG&E).

f. Filed Pursuant to: Federal Power Act, 16 U.S.C. 791(a)-825(r).

g. Applicant contact: Mr. Randal S. Livingston, Vice President—Power Generation, Pacific Gas and Electric Company, 245 Market Street, MS N11E, P.O. Box 770000, San Francisco, CA 94177-0001, (415) 973-6950.

h. FERC Contact: Tom Papsidero, (202) 502-6002.

i. Deadline for filing comments, protests, and motions to intervene: 60 days from the issuance date of this notice.

All documents (original and eight copies) should be filed with: Kimberly D. Bose, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-13059-000) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities and Proposed Project: The existing Pit 4 Dam is the second dam downstream, of the Pit 3, 4 & 5 Project (FERC No. 233) and it impounds Pit 4 Reservoir. The Pit 4 Dam has a concrete gravity overflow section 213 feet long with a maximum height of 108 feet. The Pit 4 Dam was completed in 1927, and was re-authorized in 2007 for continued operation under terms of the new hydropower license issued for Project No. 233 (120 FERC ¶ 62,001). The existing reservoir at Pit 4 has a surface area of 105 acres and a storage capacity of 1,970 acre-feet at a reservoir elevation of 2,422.5 feet NGVD. No changes are proposed to this reservoir.

The proposed Project is planned to be located entirely within the existing Project boundary for PG&E's Pit 4 Dam site. The features of the proposed Project will be located on federal lands administered by the USFS.

The proposed project would consist of a powerhouse containing one 2.2-megawatt turbine/generator unit to be constructed on the right bank, downstream of the right abutment of the existing Pit 4 Dam. The proposed project will be run-of-river; the required minimum instream flow downstream of Pit 4 Dam will be passed through the proposed powerhouse without change in volume or timing. The existing access road in the downstream spoil pile will be used to access the new powerhouse. The average annual generation at the proposed project would be 13 gigawatt-hours. The proposed project would connect to an existing PG&E 12-kV line located just to the north of the Pit 4 Dam site.

k. Location of Applications: A copy of the application is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item g above.

l. Individuals desiring to be included on the Commission's mailing list should so indicate by writing to the Secretary of the Commission.

m. Competing Preliminary Permit: Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30 and 4.36.

n. Competing Development Application: Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30 and 4.36.

o. Notice of Intent: A notice of intent must specify the exact name, business address, and telephone number of the prospective applicant, and must include an unequivocal statement of intent to submit, if such an application may be filed, either a preliminary permit application or a development application (specify which type of application). A notice of intent must be served on the applicant(s) named in this public notice.

p. Proposed Scope of Studies under Permit: A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

q. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

r. Filing and Service of Responsive Documents: Any filings must bear in all capital letters the title “COMMENTS”, “NOTICE OF INTENT TO FILE COMPETING APPLICATION”, “COMPETING APPLICATION”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

s. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E7-24553 Filed 12-18-07; 8:45 am]

BILLING CODE 6717-01-P